DEPARTMENT OF HOUSING AND URBAN DEVELOPMENT

24 CFR Chapter IX

[Docket No. FR-5650-N-10]

Native American Housing Assistance and Self-Determination Act of 1996: Negotiated Rulemaking Committee; Notice of Seventh Meeting; Correction

AGENCY: Office of the General Counsel, HUD.

ACTION: Notice of meetings of negotiated rulemaking committee; Correction.

SUMMARY: On May 26, 2015, HUD published a notice in the Federal Register announcing the seventh meeting of the Indian Housing Block Grant (IHBG) program negotiated rulemaking committee. The notice advised the public that the seventh meeting of the IHBG negotiated rulemaking committee will be held on Tuesday, August 11, 2015, Wednesday, August 12, 2015, and Thursday, August 13, 2015. The published notice incorrectly listed the location for the meeting. This document corrects the address and location for the meeting.

FOR FURTHER INFORMATION CONTACT: Rodger J. Boyd, Deputy Assistant Secretary for Native American Programs, Office of Public and Indian Housing, Department of Housing and Urban Development, 451 Seventh Street SW., Room 4126, Washington, DC 20410, telephone number 202-401-7914 (this is not a toll-free number). Hearing-or speech-impaired individuals may access this number via TTY by calling the toll-free Federal Relay Service at 1-800-877-8339.

Corrections

In the Federal Register of May 26, 2015, in FR Doc. 2015-12648, please make the following corrections:

1. On page 30004, in the third column, correct the ADDRESSES section to read as follows:

ADDRESSES: The meeting will take place at the DoubleTree-Scottsdale, 5401 North Scottsdale Road, Scottsdale, Arizona 85250-7090.

2. On page 30005, in the second column, correct the first paragraph under Section II to read as follows:

II. Seventh Committee Meeting

The seventh meeting of the IHBG Formula Negotiation Rulemaking Committee will be held on Tuesday, August 11, 2015, Wednesday, August 12, 2015, and Thursday, August 13, 2015. On each day, the session will begin at approximately 8:30 a.m., and adjourn at approximately 5:30 p.m. The meeting will take place at the DoubleTree-Scottsdale, 5401 North Scottsdale Road, Scottsdale, Arizona.

Dated: June 8, 2015.
Aaron Santa Anna,
Assistant General Counsel for Regulations.

[FR Doc. 2015-14324 Filed 6-10-15; 8:45 am]

BILLING CODE P